DEPARTMENT OF COMMERCE

International Trade Administration

[C-533-821, C-560-813, C-791-810, C-549-818]

Certain Hot-Rolled Carbon Steel Flat Products From India, Indonesia, South Africa, and Thailand: Extension of Time Limit for Preliminary Determinations in Countervailing Duty Investigations

AGENCY: Import Administration, International Trade Administration, Department of Commerce.

ACTION: Notice of extension of time limit for preliminary determinations in countervailing duty investigations.

SUMMARY: The Department of Commerce is extending the time limit of the preliminary determinations in the countervailing duty (“CVD”) investigations of certain hot-rolled carbon steel flat products from India, Indonesia, South Africa, and Thailand from February 7, 2001 until no later than March 26, 2001. This extension is made pursuant to section 703(c)(1)(B) of the Tariff Act of 1930, as amended by the Uruguay Round Agreements Act.

EFFECTIVE DATE: January 30, 2001.

FOR FURTHER INFORMATION CONTACT: Eric Greynolds (India), at (202) 482-6071; Stephanie Moore (Indonesia), at (202) 482-3692; Sally Gannon (South Africa), at (202) 482-0162; and Dana Mermelstein (Thailand), at (202) 482-1391, Import Administration, U.S. Department of Commerce, 14th Street and Constitution Avenue, N.W., Washington, D.C. 20230.

SUPPLEMENTARY INFORMATION:

Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to the regulations codified at 19 CFR Part 351 (2000).

Extension of Due Date for Preliminary Determinations

On December 4, 2000, the Department of Commerce (“the Department”) initiated the CVD investigations of certain hot-rolled carbon steel flat products from India, Indonesia, South Africa, and Thailand. See Notice of Initiation of Countervailing Duty Investigations: Certain Hot-Rolled Carbon Steel Flat Products From Argentina, India, Indonesia, South Africa, and Thailand, 65 FR 77580 (December 12, 2000). Currently, the preliminary determinations are due no later than February 7, 2001. However, pursuant to section 703(c)(1)(B) of the Act, we have determined that these investigations are “extraordinarily complicated” and are therefore extending the due date for the preliminary determinations by 45 days to no later than March 26, 2001.

Under section 703(c)(1)(B), the Department can extend the period for reaching a preliminary determination until not later than the 130th day after the date on which the administering authority initiates an investigation if:

(B) the administering authority concludes that the parties concerned are cooperating and determines that

(i) the case is extraordinarily complicated by reason of

(I) the number and complexity of the alleged countervailable subsidy practices;

(II) the novelty of the issues presented;

(III) the need to determine the extent to which particular countervailable subsidies are used by individual manufacturers, producers, and exporters; or

(IV) the number of firms whose activities must be investigated; and

(ii) additional time is necessary to make the preliminary determination. Regarding the first requirement, we find that in each case all concerned parties are cooperating. Regarding the second requirement, we find that each of these four cases is extraordinarily complicated for the following reasons.

India

The Indian CVD investigation is extraordinarily complicated because of the number of firms whose activities must be investigated and the need to determine the extent to which particular countervailable subsidies are used by individual manufacturers, producers, and exporters in India. There are five producers which exported subject merchandise to the United States during the period of investigation. In order to determine the extent to which alleged countervailable subsidies are used, a large amount of information must be analyzed by the Department for these five companies. Given the time constraints of this investigation, we consider the information to be analyzed for these five companies to be voluminous.

Indonesia

The Indonesian CVD investigation is extraordinarily complicated because of the novelty of the issue presented and the need to determine the extent to which particular countervailable subsidies are used by the producer of the subject merchandise and its subsidiary. Certain of the alleged subsidies, including equity infusions, were provided by the Government of Indonesia to a company affiliated with the producer of the subject merchandise, rather than to the producer itself. Thus, this case presents an unusual set of facts which requires additional attention and analysis with respect to determining whether such alleged subsidies provided a countervailable benefit to the producer of the subject merchandise.

South Africa

The South African investigation is extraordinarily complicated because a number of the alleged programs are complex or novel. For example, the Department must analyze complicated equity financing issues, involving extensive and complex financial analysis, as well as novel tax issues, including advanced depreciation. In addition, the Department is examining whether one of the companies was “creditworthy” when the government provided equity and loans to the company (i.e., whether a private investor would have provided the types of financing that the government provided) which demands that the Department analyze significant amounts of information.

Thailand

The Thai CVD investigation is extraordinarily complicated because of the number and complexity of the alleged programs. The Department initiated on 20 programs in this investigation, over half of which have never been investigated before. The alleged subsidies include the types of programs that are among the most complex ever handled by the Department, including government direction of credit, debt restructuring, transnational subsidies, and the provision of electricity at preferential rates, among others.

Accordingly, we deem these investigations to be extraordinarily complicated and determine, with regard to the third requirement noted above, that additional time is necessary to make the preliminary determinations. Therefore, pursuant to section 703(c)(1)(B) of the Act, we are postponing the preliminary determinations in these investigations to no later than March 26, 2001.

This notice is published pursuant to section 703(c)(2) of the Act.

Dated: January 18, 2001.
Troy H. Cribb,
Assistant Secretary for Import Administration.

[FR Doc. 01-2516 Filed 1-29-01; 8:45 am]

BILLING CODE 3510-DS-P